LEGAL SERVICES CORPORATION

Sunshine Act Meeting

TIME AND DATE: The Legal Services Corporation's Board of Directors and its six committees will meet April 7-9, 2019. On Sunday, April 7, the first meeting will commence at 1:00 p.m., Eastern Daylight Time (EDT). On Monday, April 8, the first meeting will commence at 9:00 a.m., EDT, with the next meeting commencing promptly upon adjournment of the immediately preceding meeting. On Tuesday, April 9, the closed session meeting of the Board of Directors will commence at 9:30 a.m., EDT.

PLACE: Legal Services Corporation, 3333 K Street NW, 3rd Floor, F. William McCalpin Conference Center, Washington, DC 20007.

Public Observation: Unless otherwise noted herein, the Board and all committee meetings will be open to public observation. Members of the public who are unable to attend in person but wish to listen to the public proceedings may do so by following the telephone call-in directions provided below.

Call-in Directions for Open Sessions:

• Call toll-free number: 1-866-451-4981;

• When prompted, enter the following numeric pass code: 5907707348

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule
| Time *
Sunday, April 7, 2019:
1. Governance & Performance Review Committee | 1:00 p.m.
2. Operations & Regulations Committee.
3. Finance Committee.
Monday, April 8, 2019:
1. Combined Audit and Finance Committees | 9:00 a.m.
2. Audit Committee.
3. Institutional Advancement Committee.
4. Communications Subcommittee of the Institutional Advancement Committee.
5. Delivery of Legal Services Committee.
6. Board of Directors.
Tuesday, April 9, 2019:
1. Board of Directors | 9:30 a.m.

STATUS: Open, except as noted below.

* Please note that all times in this notice are in Eastern Daylight Time.

Board of Directors—Open, except that, upon a vote of the Board of Directors, a portion of the meeting may be closed to the public to hear briefings by management and LSC's Inspector General, and to consider and act on the General Counsel's report on potential and pending litigation involving LSC.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Institutional Advancement Committee—Open, except that the meeting may be closed to the public to hear a briefing on Development activities.**

Audit Committee—Open, except that the meeting may be closed to the public to hear a briefing on the Office of Compliance and Enforcement's active enforcement matters.**

Governance and Performance Review Committee—Open, except that the meeting may be closed to the public to hear a report on the President's evaluation of other officers.**

Finance Committee—Open, except that the meeting may be closed to the public to hear a briefing from the Office of Finance and Administrative Services.**

Combined Audit and Finance Committees—Open, except that the meeting may be closed to the public to hear a briefing from the auditors.**

A verbatim written transcript will be made of the closed session of the Board, Institutional Advancement Committee, Audit Committee, Governance and Performance Review Committee and Combined Audit and Finance Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

April 7, 2019

Governance and Performance Review Committee

Open Session

1. Approval of agenda

2. Approval of minutes of the Committee's Open Session meeting on January 17, 2019

3. Report on foundation grants and LSC's research agenda

• Jim Sandman, President

4. Report on transition planning

• Ron Flagg, General Counsel and Vice President for Legal Affairs

• Carol Bergman, Vice President for Government Relations & Public Affairs

5. Consider and act on other business

6. Public comment

7. Consider and act on motion to adjourn the open meeting and proceed to a closed session

Closed Session

1. Report on evaluations of LSC's Vice President for Grants Management, Vice President for Government Relations and Public Affairs, Vice President for Legal Affairs, and Chief Financial Officer

• Jim Sandman, President

2. Consider and act on adjournment of meeting

April 7, 2019

Operations & Regulations Committee

Open Session

1. Approval of agenda

2. Approval of minutes of the Committee's Open Session meeting of January 17, 2019

3. Consider and act on the 2019-2020 Rulemaking Agenda

• Ron Flagg, General Counsel and Vice President for Legal Affairs

• Stefanie Davis, Assistant General Counsel

4. Update on performance management and human capital management

• Traci Higgins, Director of Human Resources

5. Public comment

6. Consider and act on other business

7. Consider and act on adjournment of meeting

April 7, 2019

Finance Committee

Open Session

1. Approval of agenda

2. Approval of minutes of the Committee's Open Session meeting on January 18, 2019

3. Presentation of LSC's Financial Report for the first five months of FY 2019

4. Discussion of LSC's FY 2019 appropriations

• Carol Bergman, Vice President for Government Relations & Public Affairs

5. Consider and act on Resolution #2019-XXX, LSC's Consolidated Operating Budget for FY 2019

• Debbie Moore, Chief Financial Officer & Treasurer

6. Discussion of LSC's FY 2020 appropriations request

• Carol Bergman, Vice President for Government Relations & Public Affairs

7. Discussion regarding process, timetable, and methodology for FY 2021 budget request

• Carol Bergman, Vice President for Government Relations & Public Affairs

• Jim Sandman, President

8. Report on the management process for drawing down appropriated funds from the U.S. Treasury

• Jim Sandman, President

• Debbie Moore, Chief Financial Officer & Treasurer

9. Public comment

10. Consider and act on other business

11. Consider and act on adjournment of meeting

Closed Session

1. Approval of minutes of the Committee's Closed Session meeting on January 18, 2019

2. Report on Office of Financial and Administrative Services (OFAS)

April 8, 2019

Combined Audit & Finance Committees

Open Session

1. Approval of agenda

2. Approval of minutes of the Committee's Open Session meeting on January 18, 2019

3. Presentation of the Fiscal Year (FY) 2018 Annual Financial Audit

• Roxanne Caruso, Assistant Inspector General for Audits

• Millie Seijo, Castro & Company

4. Consider and act on Resolution 2019-XXX, Acceptance of the Draft Financial Statements for Fiscal Year 2018

5. Public comment

6. Consider and act on other business

7. Consider and act on motion to adjourn the Open Session Meeting and proceed to a Closed Session

Closed Session

1. Approval of minutes of the Combined Audit & Finance Committees telephonic meeting of January 18, 2019

2. Communication by Corporate Auditor with those charged with governance under Statement on Auditing Standard 114

• Roxanne Caruso, Assistant Inspector General for Audits

• Millie Seijo, Castro & Company

3. Consider and act on motion to adjourn the meeting

April 8, 2019

Audit Committee

Open Session

1. Approval of agenda

2. Approval of minutes of the Committee's Open Session meeting on January 18, 2019

3. Briefing of Office of Inspector General

• Jeffrey Schanz, Inspector General

• Roxanne Caruso, Assistant Inspector General for Audits

4. Management update regarding risk management

• Ron Flagg, General Counsel and Vice President for Legal Affairs

5. Briefing about follow-up by the Office of Compliance and Enforcement on referrals by the Office of Inspector General regarding audit reports and annual Independent Public audits of grantees

• Lora Rath, Director of Compliance and Enforcement

• Roxanne Caruso, Assistant IG for Audits

6. Public comment

7. Consider and act on other business

8. Consider and act on motion to adjourn the open session meeting and proceed to a closed session

Closed Session

1. Approval of minutes of the Committee's Closed Session meeting of January 18, 2019

2. Briefing by the Office of Compliance and Enforcement on active enforcement matter(s) and follow-up to open investigation referrals from the Office of Inspector General

• Lora Rath, Director of Compliance and Enforcement

3. Consider and act on adjournment of meeting

April 8, 2019

Institutional Advancement Committee

Open Session

1. Approval of agenda

2. Approval of minutes of the Committee's Open Session meeting of January 17, 2019

3. Update on Leaders Council and Emerging Leaders Council

• John G. Levi, Chairman of the Board

4. Development report

• Nadia Elguindy, Director of Institutional Advancement

• Jim Sandman, President

5. Public Comment

6. Consider and act on other business

7. Consider and act on motion to adjourn the open session meeting and proceed to a closed session

Closed Session

1. Approval of minutes of the Committee's Closed Session meeting of January 17, 2019

2. Development activities report

• Nadia Elguindy, Director of Institutional Advancement

• Jim Sandman, President

3. Consider and act on motion to adjourn the meeting

April 8, 2019

Communications Subcommittee of the Institutional Advancement Committee

Open Session

1. Approval of agenda

2. Approval of minutes of the Subcommittee's Open Session meeting of January 17, 2019

3. Communications and social media update

• Carl Rauscher, Director of Communications and Media Relations

4. Public comment

5. Consider and act on other business

6. Consider and act on motion to adjourn the meeting

April 8, 2019

Delivery of Legal Services Committee

Open Session

1. Approval of agenda

2. Approval of minutes of the Committee's Open Session meeting on January 17, 2019

3. Presentation on grantee oversight by the Office of Program Performance

• Lynn Jennings, Vice President for Grants Management

• Joyce McGee, Director, Office of Program Performance

• Althea Hayward, Deputy Director, Office of Program Performance

• Ronké Hughes, Deputy Director, Office of Program Performance

4. Public comment

5. Consider and act on other business

6. Consider and act on motion to adjourn the meeting

April 8 & 9, 2019

Board of Directors

Open Session—April 8, 2019

1. Pledge of Allegiance

2. Approval of agenda

3. Approval of minutes of the Board's Open Session meeting of January 18, 2019

4. Chairman's Report

5. Members' Report

6. President's Report

7. Inspector General's Report

8. Consider and act on the report of the Governance and Performance Committee

9. Consider and act on the report of the Operations and Regulations Committee

10. Consider and act on the report of the Finance Committee

11. Consider and act on the report of the Combined Audit and Finance Committees

12. Consider and act on the report of the Audit Committee

13. Consider and act on the report of the Institutional Advancement Committee

14. Consider and act on the report of the Delivery of Legal Services Committee

15. Public Comment

16. Consider and act on other business

17. Consider and act on whether to authorize a closed session of the Board to address items listed below

Closed Session—April 9, 2019

1. Approval of minutes of the Board's Closed Session meeting of January 18, 2019

2. Management briefing

3. Inspector General briefing

4. Consider and act on General Counsel's report on potential and pending litigation involving LSC

5. Consider and act on motion to adjourn meeting

CONTACT PERSON FOR INFORMATION: Katherine Ward, Executive Assistant to the Vice President & General Counsel, at (202) 295-1500. Questions may be sent by electronic mail to FR_NOTICE_QUESTIONS@lsc.gov.

Non-confidential Meeting Materials: Non-confidential meeting materials will be made available in electronic format at least 24 hours in advance of the meeting on the LSC website, at http://www.lsc.gov/board-directors/meetings/board-meeting-notices/non-confidential-materials-be-considered-open-session.

Accessibility: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: March 26, 2019.
Katherine Ward,
Executive Assistant to the Vice President for Legal Affairs, General Counsel & Corporate Secretary.

[FR Doc. 2019-06170 Filed 3-27-19; 11:15 am]

BILLING CODE 7050-01-P